DEPARTMENT OF COMMERCE

International Trade Administration

A-570-888

Floor-Standing, Metal-Top Ironing Tables and Certain Parts Thereof from the People's Republic of China: Final Results of Antidumping Duty Administrative Review

AGENCY: Import Administration, International Trade Administration, Department of Commerce.

SUMMARY: On September 9, 2008, the U.S. Department of Commerce (the Department) published the preliminary results of the 2006 2007 administrative review of the antidumping duty order on floor-standing, metal-top ironing tables from the People's Republic of China (PRC). See Floor-Standing, Metal-Top Ironing Tables and Certain Parts Thereof From the eople's Republic of China: Preliminary Results of Antidumping Duty Administrative Review, 73 FR 52277 (September 9, 2008) (AR3 Preliminary Results). This review covers two exporters. The period of review (POR) is August 1, 2006 through July 31, 2007. We invited interested parties to comment on the Preliminary Results.

Based on our analysis of the comments received, we have made changes in the margin calculations. Therefore, the Final Results differ from the Preliminary Results. The weighted average dumping margins are listed below in the section entitled “Final Results of Review”.

EFFECTIVE DATE: March 16, 2009.

FOR FURTHER INFORMATION CONTACT: Michael J. Heaney or Robert James, AD/CVD Operations, Office 7, Import Administration, International Trade Administration, U.S. Department of Commerce, 14th Street and Constitution Avenue, NW, Washington, DC 20230; telephone: (202) 482-4475 or (202) 482-0649, respectively.

SUPPLEMENTARY INFORMATION:

Background

We published in the Federal Register the preliminary results of the second administrative review on September 9, 2008. See AR3 Preliminary Results.

Following the AR3 Preliminary Results, on October 8 and October 10, 2008, the Department received respective case briefs from Since Hardware and from Home Products International (the Petitioner in this case). On October 14, and October 17, 2008, respectively Petitioner and Since Hardware submitted rebuttal briefs. On January 5, 2009, the Department extended the time frame for publication of the final results of review by an additional 60 days. See Floor-Standing Metal-Top Ironing Tables and Certain Parts Thereof from the People's Republic of China: Extension of Time Limit for the Final Results of Administrative Review, 74 FR 267 (January 5, 2009).

Scope of the Order

For purposes of the order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, the order specifically covers imports of ironing tables, assembled or unassembled, complete or incomplete, and certain parts thereof. For purposes of the order, the term “unassembled” ironing table means a product requiring the attachment of the leg assembly to the top or the attachment of an included feature such as an iron rest or linen rack. The term “complete” ironing table means product sold as a ready-to-use ensemble consisting of the metal-top table and a pad and cover, with or without additional features, e.g., iron rest or linen rack. The term “incomplete” ironing table means product shipped or sold as a “bare board” i.e., a metal-top table only, without the pad and cover with or without additional features, e.g. iron rest or linen rack. The major parts or components of ironing tables that are intended to be covered by the order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for Customs and Border Protection (CBP) purposes, the Department's written description of the scope remains dispositive.

Separate Rates

Since Hardware and Forever Holdings requested a separate, company-specific antidumping duty rate. In the AR3 Preliminary Results, we found that both Since Hardware and Forever Holdings had met the criteria for the application of a separate antidumping duty rate. See Preliminary Results, 72 FR at 52278.

We have determined that because Since Hardware has provided inaccurate and unreliable data, it is no longer eligible for separate rate status, and thus is properly considered to be part of the PRC-wide entity. See Issues and Decision Memorandum at page 6. See also, Carbazole Violet Pigment 23 from the People's Republic of China: Final Results of Antidumping Duty Administrative Review, 74 FR 883 (January 9, 2009) (where the Department revoked a respondent's separate rate status after the respondent refused to cooperate with the Department's administrative review). We have not received any information since the Preliminary Results with respect to Forever Holdings that would warrant reconsideration of our separate-rates determination. Therefore, we have assigned an individual dumping margin to Forever Holdings for this review period.

Analysis of Comments Received

All issues raised in the case briefs by the parties and to which we have responded are addressed in the Memorandum to Ronald K. Lorentzen, Acting Assistant Secretary for Import Administration, from John M. Andersen, Acting Deputy Assistant Secretary for Antidumping and Countervailing Duty Operations entitled “Issues and Decision Memorandum for the Final Results in the Administrative Review of Floor-Standing, Metal-Top Ironing Tables and Certain Parts Thereof from the People's Republic of China”, (March 9, 2009) (Issues and Decision Memorandum), which is hereby adopted by this notice. A list of the issues raised, all of which are in the Issues and Decision Memorandum, is attached to this notice as Appendix I. Parties can find a complete discussion of all issues raised in the briefs and the corresponding recommendations in this public memorandum, which is on file in the Central Records Unit (CRU), room 1117 of the Department of Commerce. In addition, a complete version of the Issues and Decision Memorandum can be accessed directly on the Web at http://trade.gov/ia. The paper copy and electronic version of the Issues and Decision Memorandum are identical in content.

Changes since the Preliminary Results

Based on the comments received from interested parties, we have based our analysis for the PRC-wide entity, which includes Since Hardware on AFA. See Comment 1 of the Issues and Decision Memorandum for the discussion of the basis for, and the application of, AFA; see also Memorandum from Richard Weible, Director, Office 7 to John M. Andersen, Acting Deputy Assistant Secretary for Antidumping and Countervailing Duty Operations, “Since Hardware (Guangzhou) Co., Ltd's. Claim Regarding Market Economy Purchases, and Use of Adverse Facts Available,” dated March 9, 2009 (AFA Memorandum).

We have also used the financial statements of Infiniti Modules for the year ended March 31, 2007 to calculate factory overhead, SG&A expenses and profit in the final results calculations for Forever Holdings. See Comment 2 of the Issues and Decision Memorandum.

Final Results of Review

We determine that the following antidumping duty margins exist in these final results:

Exporter | Margin (percent)
PRC-wide Entity (which includes Since Hardware) | 157.68 %
Forever Holdings Limited | 0.00%

See AFA Memorandum for discussion of the basis for, and application of, AFA with respect to the PRC-wide entity, which includes Since Hardware. For details on the calculation of the antidumping duty weighted-average margin for Forever Holdings, see Memorandum to the File; from Michael J. Heaney, Senior International Trade Compliance Analyst; “Floor-Standing, Metal-Top Ironing Tables and Certain Parts Thereof from the People's Republic of China: Forever Holdings Limited (Forever Holdings) Analysis Memorandum for the Final Results,” dated March 9, 2009. The public versions of both memoranda are on file in the CRU.

Assessment Rates

Pursuant to section 751(a)(2)(A) of the Tariff Act of 1930, as amended (the Act) and 19 CFR 351.212(b), the Department will determine, and CBP shall assess, antidumping duties on all appropriate entries. The Department intends to issue assessment instructions to CBP 15 days after the date of publication of these final results of review. For assessment purposes, where possible, we calculated importer-specific assessment rates for subject ironing tables from the PRC via ad valorem duty assessment rates based on the ratio of the total amount of the dumping margins calculated for the examined sales to the total entered value of those same sales. We will instruct CBP to assess antidumping duties on all appropriate entries covered by this review.

Cash Deposit Requirements

The following cash deposit requirements will be effective upon publication of these final results of this administrative review for all shipments of the subject merchandise entered, or withdrawn from warehouse, for consumption on or after the publication date, as provided for by section 751(a)(2)(C) of the Act: (1) for Since Hardware the cash deposit rate will be 157.68 percent; (2) for Forever Holdings, the Department has calculated a zero percent margin for these final results, and therefore no cash deposit will be required for this company; (3) for previously-investigated or reviewed PRC and non-PRC exporters not listed above that have separate rates, the cash deposit rate will continue to be the exporter-specific rate published for the most recent period; (4) for all PRC exporters of subject merchandise that have not been found to be entitled to a separate rate, including those companies for which this review has been rescinded, the cash deposit rate will be the PRC-wide rate of 157.68 percent; and (5) for all non-PRC exporters of subject merchandise which have not received their own rate, the cash deposit rate will be the rate applicable to the PRC exporters that supplied that non-PRC exporter. These deposit requirements, when imposed, shall remain in effect until further notice.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return or destruction or conversion to judicial protective order of proprietary information disclosed under APO in accordance with 19 CFR 351.305(a)(3). Timely written notification of the return or destruction of APO materials or conversion to judicial protective order is hereby requested. Failure to comply with the regulations and the terms of an APO is a sanctionable violation.

This administrative review and this notice are published in accordance with sections 751(a)(1) and 777(i)(1) of the Act.

Dated: March 9, 2009.
Ronald K. Lorentzen,
Acting Assistant Secretary for Import Administration.

Appendix I

Issues in Decision Memorandum

Comment 1: Since Hardware's Claimed Purchases of Inputs from Market Economy Suppliers; Use of Adverse Facts Available

Comment 2: Proper Financial Statements to Use in Calculating Respondents' Financial Expenses

[FR Doc. E9-5627 Filed 3-13-09; 8:45 am]

BILLING CODE 3510-DS-S